DEPARTMENT OF COMMERCE

National Oceanic and Atmospheric Administration

RIN 0648-XE040

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an Exempted Fishing Permit renewal application from the Commercial Fisheries Research Foundation contains all of the required information and warrants further consideration; and that the activities authorized under the Exempted Fishing Permit would be consistent with the goals and objectives of the Interstate Fisheries Management Plan for American lobster. Regulations under the Magnuson-Stevens Fishery Conservation and Management Act and the Atlantic Coastal Fisheries Cooperative Management Act require publication of this notification to provide interested parties the opportunity to comment on Exempted Fishing Permit applications.

DATES: Comments must be received on or before August 7, 2015.

ADDRESSES: Written comments on this notice may be submitted by the following methods:

• Email to: nmfs.gar.efp@noaa.gov. Include in the subject line “Comments on CFRF Lobster EFP.”

• Mail to: John K. Bullard, Regional Administrator, NMFS, Greater Atlantic Regional Fisheries Office, 55 Great Republic Drive, Gloucester, MA 01930. Mark the outside of the envelope “Comments on CFRF Lobster EFP.”

FOR FURTHER INFORMATION CONTACT: Cynthia Hanson, NOAA Affiliate, 978-281-9180.

SUPPLEMENTARY INFORMATION: The Commercial Fisheries Research Foundation (CFRF) submitted a complete application for a 2-year renewal to an existing Exempted Fishing Permit (EFP) on June 25, 2015. The purpose of this study is to test electronic data collection while conducting research on the abundance and distribution of juvenile American lobster. Funding for this study will be provided through a NOAA grant, as part of the Saltonstall-Kennedy Grant Program. The EFP proposes to use a total of 36 ventless, untagged traps in Lobster Management Areas 2 and 3; covering statistical areas 464, 465, 512, 515, 522, 525, 526, 537, 561, 562, 613, 615, and 616. Maps depicting these areas are available on request.

The study would take place during regular fishing activity on 12 federally permitted commercial fishing vessels; 6 vessels in each of the two management areas. Sampling would occur during scheduled fishing trips on each vessel once per week in Area 2, and once every 10 days in Area 3. If an EFP extension is granted, there would be an additional 36 modified, untagged traps in the water during any given time, for a period of two years. Each participating vessel would have up to three modified traps attached to a regular trap trawl. Modifications to a conventional lobster trap would include a closed escape vent, single parlor, and smaller mesh size and entrance head.

The CFRF is requesting exemptions from the following Federal lobster regulations:

• Gear specifications in 50 CFR 697.21(c) to allow for closed escape vents, and smaller mesh and entrance heads;

• Trap limits as listed in 50 CFR 697.19(b) for Area 2, and 50 CFR 697.19(c) for Area 3, to be exceeded by 3 additional traps per fishing vessel for a total of 36 additional traps;

• Trap tag requirements, as specified in 50 CFR 697.19(i), to allow for the use of untagged traps; and

• Possession restrictions in 50 CFR 697.20(a), to allow for onboard biological sampling of juvenile, v-notched, and egg-bearing lobsters.

All lobsters caught by modified gear would remain onboard for a short period of time to allow for biological sampling and data collection, after which they would be returned to the water. Biological information will be collected on both kept and discarded lobsters, including: Carapace length; sex; and presence of eggs, v-notches, and shell disease. This study would use several data recording devices, including electronic calipers for length measurements, video cameras, and waterproof tablets. Once the vessels return to shore, data would be relayed to a central database and made available via the Atlantic Coastal Cooperative Statistic Program.

If approved, CFRF may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 17, 2015.
Emily H. Menashes,
Acting Director, Office of Sustainable Fisheries, National Marine Fisheries Service.

[FR Doc. 2015-18054 Filed 7-22-15; 8:45 am]

BILLING CODE 3510-22-P